DEPARTMENT OF DEFENSE

Office of the Secretary

[Docket ID DoD-2008-OS-0107]

Proposed Collection; Comment Request

AGENCY: Office of the Under Secretary of Defense (Personnel and Readiness), DoD.

ACTION: Notice.

SUMMARY: In compliance with section 3506(c)(2)(A) of the Paperwork Reduction Act of 1995, the Office of the Under Secretary of Defense (Personnel and Readiness) announces a proposed public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by March 26, 2012.

ADDRESSES: You may submit comments, identified by docket number and title, by any of the following methods:

Federal eRulemaking Portal: http://www.regulations.gov. Follow the instructions for submitting comments.

Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness) Defense Commissary Agency, ATTN DOB (Barry White), 1300 E Avenue, Fort Lee, VA 23801-1800, or call (804) 734-8974.

Title, Associated Form, and OMB Control Number: Commissary Evaluation and Utility Surveys—Generic, OMB Control Number 0704-0407.

Needs and Uses: The Defense Commissary Agency will conduct a variety of surveys on an as-needed basis. The survey population will include, but is not limited to, persons eligible to use the commissary throughout the world. The surveys will be used to assess the customer's satisfaction with various aspects of the commissary operation and obtain their opinions of various commissary issues. Surveys will also be used to help determine individual commissary market potential and commissary size requirements.

Affected Public: Individuals or Households, Businesses or Other For Profit.

Annual Burden Hours: 148 Hours.

Number of Respondents: 6,633.

Responses per Respondent: 1.

Average Burden per Response: 1.34 Minutes.

Frequency: On Occasion.

SUPPLEMENTARY INFORMATION:

Summary of Information Collection

(All respondents are authorized patrons by DoD regulations, unless otherwise described.)

Commissary Sizing Survey

Surveys will support commissary renovation and new construction. Survey results will be used to help determine market potential and associated commissary size requirements.

Facility Site Decisions

Surveys will support commissary site decisions. Where applicable, commissary user preference can be incorporated into the site location decision process. Patrons will input their answers to questions concerning where they would like a new facility located, as well as give their opinions and concerns that will affect their shopping experience. The survey results will also be used to estimate where the commissary users are located through the use of population density maps.

Patron Migration Survey

These surveys will aid in predicting the impact to commissaries that are near a closing commissary or a commissary that is undergoing some kind of transformation that may cause commissary users to migrate to an alternative nearby commissary. The results will be used to determine requirements for the nearby receiving commissaries.

Commissary Operational Surveys

These surveys will supply information on various processes within the commissaries. The surveyed population could be commissary customers, employees within the Agency, vendors, distributors, or contractors. Persons surveyed will not necessarily be authorized commissary users.

Market Basket Price Surveys

These surveys will be administered to commissary eligible personnel to assess their perception of our savings compared to local commercial supermarkets.

Demographic Surveys

This survey will be conducted, as needed, to assess the demographic make-up of commissary users. The results may be used in conjunction with population data to reveal differences in key demographics such as status, family size, distance from a commissary, age, service membership, and military grade.

Dated: January 31, 2012.
Patricia L. Toppings,
OSD Federal Register Liaison Officer, Department of Defense.

[FR Doc. 2012-3510 Filed 2-14-12; 8:45 am]

BILLING CODE 5001-06-P